DEPARTMENT OF AGRICULTURE

Forest Service

Caribou-Targhee National Forest, Idaho; Lower Valley Energy Crow Creek Pipeline Project

AGENCY: Forest Service, USDA.

ACTION: Notice of intent to prepare an environmental impact statement.

SUMMARY: This notice advises the public that the USDA Forest Service, Caribou-Targhee National Forest, Montpelier Ranger District, is gathering information necessary to prepare an environmental impact statement (EIS) in connection with Lower Valley Energy's request to construct an eight-inch diameter, low pressure pipeline in a north-northeasterly direction between Montpelier, Idaho and Afton, Wyoming.

DATES: Comments concerning the scope of the analysis must be received by March 1, 2018. The draft EIS is expected to be released in spring 2018, and the final EIS is expected in summer 2018.

ADDRESSES: Send written comments to Montpelier Ranger District, 322 N. 4th Street, Montpelier, ID 83254. Comments may also be sent via email to comments-intermtn-caribou-targhee-montpelier@fs.fed.us or via facsimile to (208) 847-3426.

FOR FURTHER INFORMATION CONTACT: Bryan Fuell, Acting District Ranger, Montpelier Ranger District, (208) 547-1101 or Jessica Taylor, National Environmental Policy Act (NEPA) Coordinator, Caribou-Targhee National Forest (208) 557-5837. A public scoping letter with more details is posted on the Forest website: https://www.fs.usda.gov/projects/ctnf/landmanagement/projects.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for this project is to provide natural gas to the Afton/Star Valley, Wyoming area by pipeline. Lower Valley Energy currently provides natural gas to the Afton/Star Valley area by trucking liquefied natural gas to a central distribution facility located in Star Valley. As the demand for natural gas for residences and commercial buildings continues to increase, the shipping of gas by truck becomes costlier and less efficient. Increased shipping by truck also elevates a public safety issue because the level of truck traffic carrying hazardous chemicals on public highways increases. Shortages occur each winter because truck shipments are stalled by the inclement weather. Construction of the proposed pipeline would eliminate the need for Lower Valley Energy to ship overland and would contain all natural gas conveyance to a single pipeline.

Proposed Action

The proposed routing of an eight-inch diameter, low pressure pipeline parallels existing road corridors through Forest Service ownership where feasible. In several locations, an existing road is the dividing feature between Inventoried Roadless Areas (IRAs). In these areas, the pipeline will be constructed within the roadway corridor, however; due to potential visual, noise and other impacts, IRAs adjacent to the pipeline construction may be impacted. In other locations, terrain limitations, stream environments, or practicality (shorter route, less disturbance) results in deviating from the road corridor and, in some of these cases, results in construction within an IRA. The total pipeline length is approximately 48 miles, with approximately 20 miles occuring on NFS lands (approximately 119 acres), and 40 acres of disturbance occuring within IRAs.

The project would directly impact the Meade Peak, Red Mountain, Telephone Draw and Hell Hole IRAs, and would be immediately adjacent to, and would thereby have some impact to, the Gannett Spring Creek and Sage Creek IRAs.

No road building is proposed within IRAs. Within the IRAs, only activities needed to construct the pipeline would occur and the construction areas would be fully reclaimed to original contours and with native vegetation. Project activities would include digging a trench, hauling pipe, welding pipe, and burying the pipe as well as cleanup and reclamation. Alignment markers would be installed at inter-visible distances along the entire route. While the project would have impacts to General Forest, Rangeland and Grassland (GFRG) and Backcountry Restoration (BCR) IRA themes, only incidental timber cutting would occur in BCR themes because the vegetation communities are primarily sagebrush and mountain brush.

The proposed action would also result in a plan amendment to make the project consistent with the Caribou Revised Forest Plan. The project would result in the establishment of a utility corridor for those portions of the pipeline that are outside existing corridors. The plan amendment would change the management prescription of approximately 119 acres to Management Prescription 8.1, Concentrated Development Areas.

The 2012 Planning Rule, as amended, requires identification in the initial notice of the amendment of the substantive provisions that are likely to be directly related to the amendment. Based on the proposed amendment for the Lower Valley Energy Crow Creek Pipeline and requirements of the planning rule, the following substantive requirements of the 36 CFR 219 planning regulations would likely be directly related to the proposed amendment:

§ 219.10(a)(1) Aesthetic values, air quality, cultural and heritage resources, ecosystem services, fish and wildlife species, forage, geologic features, grazing and rangelands, habitat and habitat connectivity, recreation settings and opportunities, riparian areas, scenery, soil, surface and subsurface water quality, timber, trails, vegetation, viewsheds, wilderness, and other relevant resources and uses;

§ 219.10(a)(4) Appropriate placement of and sustainable management of infrastructure, such as recreational facilities and transportation and utility corridors; and

§ 219.10(a)(7) Reasonably foreseeable risks to ecological, social, and economic sustainability.

Possible Alternatives

Two alternative routes to the proposed route have been developed to date, although other alternatives may be considered that could provide mitigation of potential impacts. At a minimum, the “no action alternative” will be fully evaluated and analyzed along with the proposed action.

Lead and Cooperating Agencies

The Forest Service is the lead agency; there are no cooperating agencies.

Responsible Official

The Forest Supervisor of the Caribou-Targhee National Forest is the responsible official.

Nature of Decision To Be Made

The decisions to be made include whether to implement the proposed action, as designed; whether there are other alternatives capable of satisfying the purpose and need; whether any mitigation measures or monitoring is required to implement the proposed action or alternatives; and whether or not to approve the plan amendment. These decisions would be made in the record of decision, which would be issued following the publication of a final EIS and completion of the Forest Service objection process (36 CFR part 218, subparts A and B and 36 CFR part 219).

Preliminary Issues

The Forest Service will identify issues based on internal and external scoping comments and will analyze potential effects in a draft EIS. Due to the number of IRAs between Montpelier and the terminus of the pipeline, avoiding impacts to IRAs is not practical. Up to six IRAs could be impacted either directly or by activities occurring adjacent to the IRA. The project would directly impact the Meade Peak, Red Mountain, Telephone Draw and Hell Hole IRAs, and would be immediately adjacent to, and would thereby have some impact to, the Gannett Spring Creek and Sage Creek IRAs. The portions of IRAs that could be impacted include GFRG and BCR management classifications (36 CFR part 294).

Scoping Process

This notice of intent initiates the scoping process, which guides the development of the EIS. In addition to this notice of intent, a legal notice will be published in the Idaho State Journal, newspaper of record, and the Star Valley Independent to ensure wide distribution of this notice.

The purpose of this comment period is to provide an opportunity for the public to provide early and meaningful participation on a proposed action prior to a decision being made by the Responsible Official. Per 36 CFR 218 and 219, only those who provide specific, written comments regarding the proposed project or activity will be eligible to file an objection. It is important that reviewers provide their comments at such times and in such manner that they are useful to the agency's preparation of the environmental impact statement. Therefore, comments should be provided prior to the close of the comment period and should clearly articulate the reviewer's concerns and contentions. Comments received in response to this solicitation, including names and addresses of those who comment, will be part of the public record for this proposed action. Comments submitted anonymously will be accepted and considered, however.

An additional opportunity for public participation will occur during the public comment period on the draft EIS, which will be initiated by the publication of a notice of availability of the draft EIS in the Federal Register.

Dated: January 10, 2018.
Chris French,
Associate Deputy Chief, National Forest System.

[FR Doc. 2018-01736 Filed 1-29-18; 8:45 am]

BILLING CODE 3411-15-P